DEPARTMENT OF HEALTH AND HUMAN SERVICES

Food and Drug Administration

[FDA 225-04-4004]

Memorandum of Understanding Between the Food and Drug Administration and the Harvard-Massachusetts Institute of Technology Division of Health Sciences and Technology

AGENCY: Food and Drug Administration, HHS.

ACTION: Notice.

SUMMARY: The Food and Drug Administration (FDA) is providing notice of a memorandum of understanding (MOU) between the Food and Drug Administration and the Harvard-Massachusetts Institute of Technology Division of Health Sciences and Technology, to establish the framework for a collaborative partnership on mutually agreed activities in the areas of scientific research and education.

DATES: The agreement became effective March 29, 2004.

FOR FURTHER INFORMATION CONTACT: Mary I. Poos, Office of External Relations (HF-10), Food and Drug Administration, 5600 Fishers Lane, Rockville, MD 20857, 301-827-2825.

SUPPLEMENTARY INFORMATION: In accordance with 21 CFR 20.108(c), which states that all written agreements and MOU's between FDA and others shall be published in the Federal Register, the agency is publishing notice of this MOU.

Dated: July 21, 2004.
Jeffrey Shuren,
Assistant Commissioner for Policy.

[FR Doc. 04-17513 Filed 7-30-04; 8:45 am]

BILLING CODE 4160-01-S